UNIFIED CARRIER REGISTRATION PLAN

Sunshine Act; Meeting

TIME AND DATE: December 2, 2021, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 924 8034 4706, to listen and participate in this meeting. The website to participate via Zoom Meeting and Screenshare is https://kellen.zoom.us/j/92480344706.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action: The Agenda will be reviewed, and the Subcommittee will consider adoption.

Ground Rules

➢ Subcommittee action only to be taken in designated areas on agenda.

IV. Review and Approval of Subcommittee Minutes from the October 21, 2021 Meeting—Subcommittee Chair

For Discussion and Possible Subcommittee Action: Draft minutes from the October 21, 2021 Subcommittee meeting via teleconference will be reviewed. The Subcommittee will consider action to approve.

V. Review Proposals Received for External Audit of the UCR Depository—UCR Executive Director and UCR Depository Manager

For Discussion and Possible Subcommittee Action: The UCR Executive Director and the UCR Depository Manager will discuss the proposals received from the respondents to the request-for-proposal (RFP) that was distributed to four selected firms in November. The purpose of the RFP was to begin a process to identify and engage a new independent auditing firm to conduct an assurance engagement of the UCR Depository's financial statements for the year ending December 31, 2021. The proposals received will be tabulated, ranked, and then presented to the Subcommittee. The Subcommittee may consider making a recommendation to the Board to engage a new auditing firm for the financial statements ending December 31, 2021.

VI. Discussion of the UCR Internal Controls Procedures Report Prepared by the Independent Audit Firm—UCR Executive Director and UCR Depository Manager

The UCR Executive Director and the UCR Depository Manager will lead a discussion of the report on the Internal Controls Review that was performed by Williams, Benator & Libby (WBL). The response to the report from Kellen will also be reviewed and discussed.

VII. Motor Carriers Selecting Option B for UCR Renewals—Subcommittee Chair, UCR Executive Director, and DSL Transportation, Inc. (DSL)

The Subcommittee Chair, UCR Executive Director, and DSL will discuss issues related to motor carriers who select Option B to renew UCR registration. The discussion will include consideration of the “pros” and “cons” regarding the potential requirement on motor carriers to upload a list of intrastate exempt vehicles to the National Registration System when registering in the portal.

VIII. Review 49 CFR 392.2 Violations—Subcommittee Chair and DSL

The Subcommittee Chair and DSL will review the 49 CFR 392.2 violations in the State of Kansas (Kansas) for the month of October 2021. The discussion will highlight the financial value to Kansas by vetting these companies for UCR compliance, commercial registration, IFTA, intrastate, and interstate operating authority. 49 CFR 392.2 requires commercial motor vehicles to operate in accordance with the laws, ordinances, and regulations of the jurisdiction in which they are operating within.

IX. Vetting the Shadow MCMIS Report—Subcommittee Chair, Verna Jackson, and DSL

The Subcommittee Chair, Verna Jackson, and DSL will update the Subcommittee on the value achieved by vetting the Shadow MCMIS report in Kansas. The discussion will highlight the financial value to Kansas by vetting these companies for UCR compliance, commercial registration, IFTA, intrastate, and interstate operating authority.

X. Review States' Audit Compliance Rates Compliance Percentages for Focused Anomaly Reviews (FARs) for Registration Years 2020, 2021, and 2022—Subcommittee Chair

The Subcommittee Chair will review audit compliance rates for the states for registration years 2020, 2021, and 2022 and included compliance percentages for FARs, retreat audits, and registration compliance percentages.

XI. Support States to Improve Registration Compliance—Subcommittee Chair and DSL

The Subcommittee Chair and DSL will lead a discussion regarding methods to help participating states improve registration compliance (percentages). Suggested methods might include educating various constituents such as state registration offices, state motor carrier association offices, state highway patrols, etc. New entrant audits are an additional suggestion. Input from the Subcommittee on other ideas is encouraged.

XII. Seeking Vice-Chair for the UCR Audit Subcommittee—Subcommittee Chair

The Subcommittee Chair will lead a discussion regarding interest in the vacant Subcommittee Vice-Chair position.

XIII. Other Business—Subcommittee Chair

The Subcommittee Chair will call for any other items Subcommittee members would like to discuss.

XIV. Adjournment—Subcommittee Chair

The Subcommittee Chair will adjourn the meeting.

The agenda will be available no later than 5:00 p.m. Eastern time, November 23, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-25920 Filed 11-23-21; 11:15 am]

BILLING CODE 4910-YL-P